DEPARTMENT OF COMMERCE

International Trade Administration

[A-357-812]

Honey From Argentina: Preliminary Results of Antidumping Duty Administrative Review and Partial Rescission of Antidumping Duty Administrative Review

AGENCY: Import Administration, International Trade Administration, Department of Commerce.

SUMMARY: In response to requests by interested parties, the Department of Commerce (the Department) is conducting an administrative review of the antidumping duty order on honey from Argentina. The review covers imports of subject merchandise from nine companies. The period of review (POR) is December 1, 2009, through November 30, 2010. We preliminarily determine that sales of honey from Argentina have not been made below normal value (NV) by mandatory respondents TransHoney S.A. (TransHoney) and Compañía Inversora Platense S.A. (CIPSA) during the POR. In addition, we have preliminarily determined a margin for those companies that were not selected for individual examination. If these preliminary results are adopted in our final results of administrative review, we will issue appropriate assessment instructions to U.S. Customs and Border Protection (CBP). Interested parties are invited to comment on these preliminary results.

DATES: Effective Date: January 10, 2012.

FOR FURTHER INFORMATION CONTACT: John Drury or Angelica Mendoza, AD/CVD Operations, Office 7, Import Administration, International Trade Administration, U.S. Department of Commerce, 14th Street and Constitution Avenue NW., Room 7850, Washington, DC 20230; telephone (202) 482-0195 or (202) 482-3019, respectively.

SUPPLEMENTARY INFORMATION:

Background

On December 10, 2001, the Department published the antidumping duty order on honey from Argentina. See Notice of Antidumping Duty Order: Honey From Argentina, 66 FR 63672 (December 10, 2001). On December 1, 2010, the Department published in the Federal Register its notice of opportunity to request an administrative review of this order. See Antidumping or Countervailing Duty Order, Finding, or Suspended Investigation; Opportunity To Request Administrative Review, 75 FR 74682 (December 1, 2010). In response, the Department received the following requests for review:

On December 29 and 30, 2010, Algodonera Avellaneda, S.A. (Algodonera) and Nexco S.A. (Nexco), respectively, requested administrative reviews of the antidumping duty order on honey from Argentina for the POR. On January 3, 2011,¹ A.G.L.H. S.A., (AGLH), CIPSA, Industrial Haedo S.A. (Haedo), Mielar S.A./Compañía Apícola Argentina S.A. (Mielar), Patagonik S.A. (Patagonik), and TransHoney also requested administrative reviews.

¹ The Department stated that parties had the opportunity to request a review until the last day of December 2010, “{o}r the next business day, if the deadline falls on a weekend, Federal holiday or any other day when the Department is closed.” See Antidumping or Countervailing Duty Order, Finding, or Suspended Investigation; Opportunity To Request Administrative Review, 75 FR at 74682. Because December 31, 2010, was a Federal holiday, and January 1 and 2, 2011, fell on a weekend, the next business day was January 3, 2011.

Also on January 3, 2011, the American Honey Producers Association and Sioux Honey Association (collectively, the petitioners) requested that the Department conduct administrative reviews of entries of subject merchandise made by 21 Argentine producers/exporters.²

² The petitioners requested reviews for AGLH, Algodonera, Nexco, Haedo, Mielar, CIPSA, Patagonik, TransHoney, Asociacion de Cooperativas Argentinas Av. (ACA), HoneyMax S.A. (HoneyMax), Alma Pura S.A. (Alma Pura), Alimentos Naturales-Natural Foods Lavalle, Apidouro Comercial Exportadora E Importadora Ltda., Bomare S.A., Compania Apicola Argentina S.A., El Mana S.A., Interrupcion S.A., Miel Ceta SRL, Productos Afer S.A., Seabird Argentina S.A., and Villamora S.A.

On January 13, 2011, the petitioners withdrew their request for an antidumping duty administrative review of ACA.

On January 28, 2011, the Department initiated a review of the 20 remaining companies for which an administrative review was requested. See Initiation of Antidumping and Countervailing Duty Administrative Reviews, 76 FR 5137 (January 28, 2011) (Initiation Notice).

On February 2, 2011, Alma Pura submitted a letter certifying that, during the POR, it had no shipments, sales, or U.S. entries of subject merchandise and requested that the Department rescind the administrative review with respect to Alma Pura.

On February 7, 2011, the Department issued a memorandum to the file indicating its intention to limit the number of respondents selected for review and to select mandatory respondents based on U.S. Customs and Border Protection (CBP) data for U.S. imports of Argentine honey during the POR. The Department encouraged all interested parties to submit comments regarding the use of CBP entry data for respondent selection purposes. See Memorandum to the File through Richard Weible, Director, Office 7, AD/CVD Operations, regarding “Honey from Argentina—United States Customs and Border Protection Entry Data for Selection of Respondents for Individual Review,” dated February 7, 2011.

On February 24, 2011, the Department published a subsequent initiation notice which included corrections to the Initiation Notice with respect to honey from Argentina. See Initiation of Antidumping and Countervailing Duty Administrative Reviews and Request for Revocation in Part, 76 FR 10329 (February 24, 2011) (Second Initiation Notice).³

³ In Nexco's review request, Nexco also requested revocation from the antidumping duty order on honey from Argentina (in part). However, Nexco's request for revocation in part from the order was inadvertently omitted from the Initiation Notice. Furthermore, certain company names were misspelled in the Initiation Notice. All errors were corrected in the Second Initiation Notice.

On March 18, 2011, the Department selected the two producers/exporters with the largest export volume during the POR as mandatory respondents: HoneyMax and Nexco. See Memorandum to Richard O. Weible, “Administrative Review of the Antidumping Duty Order on Honey from Argentina: Respondent Selection Memorandum,” dated March 18, 2011. On March 18, 2011, the Department issued its antidumping questionnaire to the two mandatory respondents.

On April 8, 2011, and pursuant to 19 CFR 351.213(d)(1), the petitioners timely withdrew their request for review of the following companies: (1) Alimentos Naturales-Natural Foods Lavalle; (2) Alma Pura; (3) Apidouro Comercial Exportadora E Importadora Ltda.; (4) Bomare S.A.; (5) HoneyMax; (6) Interrupcion S.A.; (7) Miel Ceta SRL; (8) Nexco; (9) Productos Afer S.A.; and (10) Seabird Argentina S.A.

Also on April 8, 2011, and pursuant to 19 CFR 351.213(d)(1), Nexco withdrew its request for review and asked that the Department rescind the review in part.

Accordingly, the Department informed interested parties of its intent to rescind the review for the ten companies for which the petitioners and Nexco withdrew requests for review. In addition, in place of Nexco and HoneyMax, the Department selected two new producers/exporters with the largest export volume during the POR as mandatory respondents, CIPSA and TransHoney. See Memorandum to Richard O. Weible, “Administrative Review of the Antidumping Duty Order on Honey from Argentina: Respondent Selection Memorandum,” dated May 9, 2011.

On May 11, 2011, the Department issued its antidumping questionnaire to CIPSA and TransHoney. The Department extended the time limits for the preliminary results of this review and rescinded the review for the ten companies mentioned above on September 7, 2011. See Honey From Argentina: Notice of Extension of Time Limit for Preliminary Results and Partial Rescission of Antidumping Duty Administrative Review, 76 FR 55349 (September 7, 2011).

CIPSA

On June 15, 2011, CIPSA filed its response to section A of the Department's questionnaire (CIPSA AQR). On June 29, 2011, CIPSA filed its response to sections B and C of the Department's questionnaire (CIPSA BQR and CIPSA CQR). On July 28, 2011, and October 3, 2011, the Department issued supplemental questionnaires to CIPSA. CIPSA filed responses to the supplemental questionnaires on August 18, 2011 (CIPSA 1SQR) and October 17, 2011.

TransHoney

On June 23, 2011, TransHoney filed its response to the Department's section A questionnaire (TransHoney AQR). On June 29, 2011, TransHoney filed its response to sections B and C of the Department's questionnaire (TransHoney BQR and TransHoney CQR). On August 1, 2011, and September 22, 2011, the Department issued supplemental questionnaires to TransHoney. TransHoney filed responses to the supplemental questionnaires on August 22, 2011, September 1, 2011 (TransHoney 1SQR) and October 6, 2011.

Period of Review

The POR is December 1, 2009, through November 30, 2010.

Scope of the Order

The merchandise covered by the order is honey from Argentina. The products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form.

The merchandise covered by the order is currently classifiable under subheadings 0409.00.00, 1702.90.90, and 2106.90.99 of the Harmonized Tariff Schedule of the United States (HTSUS). Although the HTSUS subheadings are provided for convenience and customs purposes, the Department's written description of the merchandise under the order is dispositive.

Rescission, in Part, of Administrative Review

Pursuant to 19 CFR 351.214(j), the Secretary may, after consulting with the exporter or producer, rescind in whole or in part a review in progress under this subpart if a separate review (or a request for a review) under § 351.213 (administrative review), § 351.214 (new shipper review), § 351.215 (expedited antidumping review), or § 351.216 (changed circumstances review) covers merchandise of an exporter or producer subject to a review (or to a request for a review) under this section. On November 30, 2011, the Department published the final results of a new shipper review of this antidumping duty order covering exports of Villamora S.A. for the period December 1, 2009, through November 30, 2010, the same time period as this POR. See Honey From Argentina: Final Results of Antidumping Duty New Shipper Review, 76 FR 74044 (November 30, 2011). After consulting with Villamora S.A., the Department is rescinding, in part, the antidumping duty administrative review on honey from Argentina for the period December 1, 2009 to November 30, 2010, with respect to Villamora S.A. See Memorandum to the File: 2009/2010 Administrative Review of the Antidumping Duty Order on Honey from Argentina: Telephone Conversation with Counsel for Villamora S.A. (Villamora), dated December 6, 2011.

Product Comparisons

In accordance with section 771(16) of the Tariff Act of 1930, as amended (the Act), we considered all sales of honey covered by the description in the “Scope of the Order” section of this notice, supra, which were sold in the appropriate third-country markets during the POR to be the foreign like product for the purpose of determining appropriate product comparisons to honey sold in the United States. For our discussion of market viability and selection of comparison markets, see the “Normal Value” section of this notice, infra. We matched products based on the physical characteristics reported by CIPSA and TransHoney. Where there were no sales of identical merchandise in the third-country market to compare to U.S. sales, we compared U.S. sales to the next most similar foreign like product on the basis of the characteristics and reporting instructions listed in the antidumping duty questionnaire and instructions, or to constructed value (CV), as appropriate.

Level of Trade

In accordance with section 773(a)(1)(B)(i) of the Act, to the extent practicable, we determine NV based on sales in the comparison market at the same level of trade (LOT) as export price (EP) or the constructed export price (CEP). The NV LOT is based on the starting price of the sales in the comparison market or, when NV is based on CV, that of the sales from which we derive selling, general and administrative expenses and profit. See also 19 CFR 351.412(c)(1)(iii). For CEP, it is the level of the constructed sale from the exporter to an affiliated importer after the deductions required under section 772(d) of the Act. See 19 CFR 351.412(c)(1)(ii). For EP, it is the starting price. See 19 CFR 351.412(c)(1)(i). In this review, all mandatory respondents claimed only EP sales.

To determine whether NV sales are at a different LOT than EP, we examine stages in the marketing process and selling functions along the chain of distribution between the producer and the unaffiliated customer. See 19 CFR 351.412(c)(2). If the comparison market sales are at a different LOT and the difference affects price comparability, as manifested in a pattern of consistent price differences between the sales on which NV is based and comparison market sales at the LOT of the export transaction, we make a LOT adjustment under section 773(a)(7)(A) of the Act.

CIPSA reported that all of its third-country and U.S. market sales were made to importer/distributors or importer/packers at the same LOT. See CIPSA AQR at A-9 to A-13 and Exhibit A.3, CIPSA BQR at B-19, CIPSA CQR at C-16, and CIPSA 1SQR at 8-9, 17-18. TransHoney reported a single LOT for all U.S. and third-country market sales and the same channel of distribution. See TransHoney AQR at A-10 to A-15 and Exhibit A.3, TransHoney BQR at B-18, TransHoney CQR at C-16, and TransHoney 1SQR at 16 and Exhibit A.14.

The Department has determined that differing channels of distribution, alone, do not qualify as separate LOTs when selling functions performed for each customer class are sufficiently similar. See Notice of Preliminary Results and Partial Rescission of Antidumping Duty Administrative Review: Ninth Administrative Review of the Antidumping Duty Order on Certain Pasta from Italy, 71 FR 45017, 45022 (August 8, 2006) (unchanged in Notice of Final Results of the Ninth Administrative Review of the Antidumping Duty Order on Certain Pasta from Italy, 72 FR 7011 (February 14, 2007)); see also 19 CFR 351.412(c)(2). TransHoney and CIPSA reported a single LOT for all U.S. and third-country sales. CIPSA and TransHoney claimed that their selling activities in both markets are essentially identical, and nothing on the record appears to suggest otherwise. Therefore, for TransHoney and CIPSA, we preliminarily determine that all reported sales are made at the same LOT, and have not made a LOT adjustment.

Date of Sale

Pursuant to 19 CFR 351.401(i), the Department normally will use the date of invoice, as recorded in the exporter's or producer's records kept in the ordinary course of business, as the date of sale, but may use a date other than the date of invoice if it better reflects the date on which the material terms of sale are established. For CIPSA, the Department used the invoice date as the date of sale for both its comparison and U.S. market sales for these preliminary results. CIPSA asserts that changes in ordered terms have occurred in the past and its customers know they can request changes to an order prior to shipment. See CIPSA 1SQR at 10. As in past segments of this proceeding, we preliminarily determine that there is potential for change to the essential terms of sale between the contract date and invoice date and therefore invoice date continues to be the appropriate date of sale with respect to CIPSA's sales in the U.S. and third-country markets because of the potential for change to the essential terms of sale between the order date and invoice date.

For TransHoney, the Department, consistent with its practice, used the reported date of invoice as the date of sale for both the third-country and U.S. markets. TransHoney states that changes to the essential terms of sale can occur between the order date and invoice date, which is coincident with the date of actual shipment. See TransHoney AQR at A-17, and TransHoney 1SQR at 26-27. Consequently, we preliminarily find that invoice date is the appropriate date of sale with respect to TransHoney's and its affiliated entity's ⁴ sales in the U.S. and comparison markets.

⁴ See “Affiliation” section below.

Export Price

Section 772(a) of the Act defines EP as “the price at which the subject merchandise is first sold (or agreed to be sold) before the date of importation by the producer or exporter of subject merchandise outside of the United States to an unaffiliated purchaser in the United States or to an unaffiliated purchaser for exportation to the United States, as adjusted under {section 772(c) of the Act}.” Section 772(b) of the Act defines CEP as “the price at which the subject merchandise is first sold (or agreed to be sold) in the United States before or after the date of importation by or for the account of the producer or exporter of such merchandise or by a seller affiliated with the producer or exporter, to a purchaser not affiliated with the producer or exporter,” as adjusted under sections 772(c) and (d) of the Act. For purposes of this administrative review, CIPSA and TransHoney classified their U.S. sales as EP because all of their sales were made before the date of importation directly to unaffiliated purchasers in the U.S. market. For purposes of these preliminary results, we have accepted these classifications. We based EP on prices to unaffiliated customers in the United States and made adjustments for movement expenses.

Normal Value

Selection of Comparison Market

In accordance with section 773(a)(1)(C) of the Act, to determine whether there was a sufficient volume of sales in the home market to serve as a viable basis for calculating NV (i.e., the aggregate volume of home market sales of the foreign like product is greater than or equal to five percent of the aggregate volume of U.S. sales), we compared CIPSA's and TransHoney's respective aggregate volume of home market sales of the foreign like product to their respective aggregate volume of U.S. sales of subject merchandise. CIPSA's volume of home market sales did not exceed five percent of the aggregate volume of U.S. sales; TransHoney had no home market sales during the POR. As a result, we preliminarily find that neither CIPSA's nor TransHoney's home markets provide a viable basis for calculating NV.

When sales in the home market are not suitable to serve as the basis for NV, section 773(a)(1)(B)(ii) of the Act provides that sales to a third-country market may be utilized if: (i) The prices in such market are representative; (ii) the aggregate quantity of the foreign like product sold by the producer or exporter in the third-country market is five percent or more of the aggregate quantity of the subject merchandise sold in or to the United States; and (iii) the Department does not determine that a particular market situation in the third-country market prevents a proper comparison with the EP or CEP. In terms of volume of sales (and with five percent or more of sales by quantity to the United States), TransHoney and CIPSA both reported Italy as their third-country markets during the POR.

The record shows the aggregate quantities of TransHoney's and its affiliate ⁵ Einsof Trade S.A. (Einsof)'s, as well as CIPSA's, sales to Italy are greater than five percent of TransHoney's and CIPSA's sales to the United States. In addition, the Department preliminarily determines there is no evidence on the record to demonstrate that these prices in Italy are not representative. See TransHoney AQR at Exhibit A.1 and CIPSA AQR at Exhibit A.1. Nor is there evidence that any other third-country market to which TransHoney or CIPSA sells would offer greater similarity of product to that sold to the United States. Further, we find there is no particular market situation in Italy with respect to TransHoney or Einsof or CIPSA that would prevent a proper comparison to EP. As a result, we preliminarily find TransHoney's and its affiliate's, along with CIPSA's, sales to Italy serve as the most appropriate basis for NV.

⁵ See “Affiliation” section, infra.

Therefore, NV for both companies is based on its third-country sales to unaffiliated purchasers made in commercial quantities and in the ordinary course of trade. For NV, we used the prices at which the foreign like product was first sold for consumption in the usual commercial quantities, in the ordinary course of trade, and at the same LOT as the EP. We calculated NV as noted in the “Price-to-Price Comparisons” section of this notice, infra.

Affiliation

According to section 771(33) of the Act, the Department determines affiliation using a variety of criteria. TransHoney submitted, as part of its sales database, the third-country market sales made by another Argentine exporter, Einsof, a company with which TransHoney claims to be affiliated. To determine affiliation between companies, the Department analyzed in the immediately preceding administrative review of this order, TransHoney's responses and found that, pursuant to section 771(33)(F) of the Act, TransHoney and Einsof are affiliated because they are under common control. Specific matters related to the common control are proprietary in nature. For further details, see Memorandum to the File, “2009/2010 Administrative Review of the Antidumping Duty Order on Honey from Argentina: Analysis of the Relationship Between TransHoney S.A. (TransHoney) and Einsof Trade S.A. (Einsof),” dated January 3, 2012. The memorandum includes the Memorandum to Richard Weible, “Antidumping Duty Administrative Review of Honey from Argentina: Analysis of the Relationship Between TransHoney S.A. (TransHoney) and Einsof Trade S.A. (Einsof),” dated January 7, 2011, (TransHoney/Einsof Affliation Memorandum), which has been placed on the record of this review, as well as a discussion of any differences between the previous review and this one with respect to affiliation issues concerning TransHoney and Einsof.

Furthermore, in certain circumstances the Department will treat two or more affiliated producers as a single entity and determine a single weighted-average margin for that entity, in order to determine margins accurately and to prevent manipulation that would undermine the effectiveness of the antidumping law. See 19 CFR 351.401(f).

While 19 CFR 351.401(f) applies only to producers, the Department has found it to be instructive in determining whether non-producers should be collapsed and has used the criteria in the regulation in its analysis. See TransHoney/Einsof Affiliation Memorandum; see, e.g., Honey from Argentina: Final Results of Antidumping Duty Administrative Review, 70 FR 19926, 19926 (April 15, 2005); and Notice of Final Determination of Sales at Less Than Fair Value: Certain Frozen and Canned Warmwater Shrimp From Brazil, 69 FR 76910 (December 23, 2004) and accompanying Issues and Decision Memorandum at Comment 5. The U.S. Court of International Trade (CIT) has found that collapsing exporters is consistent with a “reasonable interpretation of the {antidumping duty} statute.” See Hontex Enterprises, Inc. v. United States, 248 F. Supp. 2d. 1323, 1338 (CIT 2003) (Hontex). The CIT further noted that “to the extent that Commerce has followed its market economy collapsing regulations the {non-market economy (NME)} exporter collapsing methodology is necessarily permissible.” See id. at 1342.

During the 2008-2009 administrative review, the Department determined that TransHoney and Einsof should be treated as a single entity. After reviewing information on the record, the Department preliminarily determines that the fact pattern in this POR is substantially similar to the fact pattern in the 2008-2009 review of the order covering these companies. The Department preliminarily finds that, based on management overlap and intertwined relations, the relationship between these companies is such that both should be treated as a single entity for purposes of this administrative review and should receive a single antidumping duty rate. For further details, see TransHoney/Einsof Affiliation Memorandum.

Price-to-Price Comparisons

CIPSA

We calculated NV based on prices to unaffiliated purchasers in the third-country market and matched U.S. sales to NV. We made adjustments, where applicable, for movement expenses in accordance with section 773(a)(6)(B) of the Act. Where appropriate, we made circumstances-of-sale adjustments for credit and other direct selling expenses (e.g., certain Argentine government-requested testing expenses) in accordance with section 773(a)(6)(C) of the Act. Additionally, we reclassified one of CIPSA's reported direct selling expenses (e.g., certain customer-requested testing expenses) as an indirect selling expense. We also made further deductions to price for certain movement expenses (offset for reported freight revenue), where appropriate, pursuant to section 772(c)(2)(A) of the Act. See Analysis of Data Submitted by Compañía Inversora Platense S.A. (CIPSA) for the Preliminary Results of the Antidumping Duty Administrative Review of Honey from Argentina, dated January 3, 2012.

TransHoney

We calculated NV based on prices to unaffiliated purchasers in the third-country market and matched U.S. sales to NV. We made adjustments, where applicable, for movement expenses in accordance with section 773(a)(6)(B) of the Act. Where appropriate, we made circumstances-of-sale adjustments for credit and other direct selling expenses (i.e., certain Argentine government-requested testing expenses) in accordance with section 773(a)(6)(C) of the Act. Additionally, we reclassified one of TransHoney's reported direct selling expenses (namely, certain customer-requested testing expenses) as an indirect selling expense. We also disregarded certain claimed commissions and insurance expenses. See Analysis of Data Submitted by TransHoney S.A. (TransHoney) for the Preliminary Results of the Antidumping Duty Administrative Review of Honey from Argentina, dated January 3, 2012.

Currency Conversions

The Department's preferred source for daily exchange rates is the Federal Reserve Bank. See Preliminary Results of Antidumping Duty Administrative Review: Stainless Steel Sheet and Strip in Coils from France, 68 FR 47049, 47055 (August 7, 2003) (unchanged in Notice of Final Results of Antidumping Duty Administrative Review: Stainless Steel Sheet and Strip in Coils From France, 68 FR 69379 (December 12, 2003)). However, the Federal Reserve Bank does not track or publish exchange rates for the Argentine peso. Therefore, we made currency conversions from Argentine pesos to U.S. dollars based on the daily exchange rates from Factiva, a Dow Jones retrieval service. Factiva publishes exchange rates for Monday through Friday only. We used the rate of exchange on the most recent Friday for conversion dates involving Saturday through Sunday where necessary.

Preliminary Results of Review

As a result of our review, we preliminarily determine the following weighted-average dumping margins exist for the period December 1, 2009, through November 30, 2010:

Exporter | Weighted- average margin (percentage)
Compañía Inversora Platense S.A. | 0.00
TransHoney S.A. and Einsof Trade S.A. | 0.00
AGLH S.A. | 0.77
Algodonera Avellaneda S.A. | 0.77
Compañía Apicola Argentina S.A . | 0.77
El Mana S.A. | 0.77
Industrial Haedo S.A. | 0.77
Mielar S.A. | 0.77
Patagonik S.A. | ¹ 0.27
¹ (de minimis).

We have preliminarily assigned to six of the seven non-selected companies subject to this review listed above the rate of 0.77 percent, which was calculated in the Department's 2006-2007 administrative review of Patagonik S.A.; the most recent above de minimis rate from a completed segment of this proceeding. See Honey from Argentina: Final Results of Antidumping Duty Administrative Review and Determination to Revoke Order in Part, 74 FR 32107 (July 7, 2009). In instances where the selected respondent companies have rates of zero, the Department's normal practice is to assign to the non-selected companies the most recent calculated rate from a prior completed segment of the proceeding that is not zero or de minimis, and not based entirely on facts available (or average of such rates). See, e.g., Certain Polyester Staple Fiber From the People's Republic of China: Notice of Preliminary Results of the Antidumping Duty Administrative Review, and Intent To Revoke Order in Part, 76 FR 40329, 40332 (July 8, 2011) (unchanged in Certain Polyester Staple Fiber From the People's Republic of China: Final Results of Antidumping Duty Administrative Review, and Revocation of an Order in Part, 76 FR 69702 (November 9, 2011)). Also consistent with our practice, if any non-selected companies have their own calculated (non-adverse facts available) rate that is contemporaneous with or more recent than this rate, then the companies will receive that rate. Thus, we have preliminarily assigned to Patagonik S.A. its current de minimis rate of 0.27 percent, which was calculated in the 2008-2009 administrative review of the order. See Honey From Argentina: Final Results of Antidumping Duty Administrative Review, 76 FR 29192 (May 20, 2011).

Following these preliminary results, we intend to request from all non-selected companies certain information regarding sales of honey made to the United States during the POR to determine the appropriateness of our preliminary margin assignments for these companies. We will invite parties to consider any such information in their comments for purposes of our final results of this review.

Disclosure and Request for Public Hearing and Comments

The Department will disclose the calculations performed within five days of the date of publication of this notice in accordance with 19 CFR 351.224(b). An interested party may request a hearing within thirty days of publication. See 19 CFR 351.310(c). Any hearing, if requested, will be held 37 days after the date of publication, or the first business day thereafter, unless the Department alters the date pursuant to 19 CFR 351.310(d). Interested parties may submit case briefs or written comments no later than 30 days after the date of publication of these preliminary results of review. Rebuttal briefs and rebuttals to written comments, limited to issues raised in the case briefs and comments may be filed no later than 35 days after the date of publication of this notice. Parties who submit arguments in these proceedings are requested to submit with the argument: (1) A statement of the issues, (2) a brief summary of the argument, and (3) a table of authorities. Further, parties submitting case briefs, rebuttal briefs, and written comments should provide the Department with an additional copy of the public version of any such argument on diskette. The Department will issue final results of this administrative review, including the results of our analysis of the issues in any such case briefs, rebuttal briefs, and written comments or at a hearing, within 120 days of publication of these preliminary results.

Assessment

The Department shall determine, and CBP shall assess, antidumping duties on all appropriate entries. In accordance with 19 CFR 351.212(b)(1), where entered values were reported, we calculated importer-specific ad valorem assessment rates for the merchandise based on the ratio of the total amount of antidumping duties calculated for the examined sales made during the POR to the total customs value of the sales used to calculate those duties. Where entered values were not reported, we calculated importer- or customer- (where the importer was unknown) specific per-unit assessment rates for the merchandise based on the ratio of the total amount of antidumping duties calculated for the examined sales made during the POR to the total quantity of the sales used to calculate those duties. These rates will be assessed uniformly on all of CIPSA's and TransHoney's entries made during the POR. The Department intends to issue assessment instructions to CBP 15 days after the date of publication of the final results of this review.

The Department clarified its “automatic assessment” regulation on May 6, 2003. See Antidumping and Countervailing Duty Proceedings: Assessment of Antidumping Duties, 68 FR 23954 (May 6, 2003). This clarification will apply to entries of subject merchandise during the POR produced by companies included in these final results of review for which the reviewed companies did not know their merchandise was destined for the United States. In such instances, we will instruct CBP to liquidate unreviewed entries at the all-others rate if there is no rate for the intermediate company(ies) involved in the transaction.

Cash Deposit Requirements

To calculate the cash deposit rates for TransHoney and CIPSA, we divided their total dumping margins by the total net value of each of their sales during the review period. For the companies which were not selected for individual review, we have calculated a cash deposit rate based on the simple average of the rates determined for TransHoney and CIPSA for the period December 1, 2009, through November 31, 2010.

The following cash deposit requirements will be effective upon completion of the final results of this administrative review for all shipments of honey from Argentina entered, or withdrawn from warehouse, for consumption on or after the publication date of the final results of this administrative review, as provided by section 751(a)(1) of the Act: (1) The cash deposit rate for each specific company listed above will be that established in the final results of this review, except if the rate is less than 0.50 percent and, therefore, de minimis within the meaning of 19 CFR 351.106(c)(1), in which case the cash deposit rate will be zero; (2) for any previously-reviewed or investigated company not listed above, the cash deposit rate will continue to be the company-specific rate published for the most recent period; (3) if the exporter is not a firm covered in this review or the less-than-fair-value investigation, but the manufacturer is, the cash deposit rate will be the rate established for the most recent period for the manufacturer of the merchandise; and (4) if neither the exporter nor the manufacturer is a firm covered in this or any previous review conducted by the Department, the cash deposit rate will be the all-others rate from the investigation (30.24 percent). See Notice of Antidumping Duty Order; Honey From Argentina, 66 FR at 63673. These cash deposit requirements, when imposed, shall remain in effect until further notice.

Notification to Importers

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

We are issuing and publishing this notice in accordance with sections 751(a)(1) and 777(i)(1) of the Act.

Dated: January 3, 2012.
Christian Marsh,
Acting Assistant Secretary for Import Administration.

[FR Doc. 2012-234 Filed 1-9-12; 8:45 am]

BILLING CODE 3510-DS-P